DEPARTMENT OF ENERGY

Federal Energy Regulatory Commission

[Project No. 2512-075; Project No. 14439-001]

Notice of Availability of Final Environmental Assessment; Hawks Nest Hydro, LLC

In accordance with the National Environmental Policy Act of 1969 and the Federal Energy Regulatory Commission's (Commission) regulations, 18 CFR part 380 (Order No. 486, 52 FR 47897), the Office of Energy Projects has reviewed the applications for new licenses for the Hawks Nest Hydroelectric Project (FERC Project No. 2512-075) and the Glen Ferris Hydroelectric Project (FERC Project No. 14439-001) located in Fayette County, West Virginia, and has prepared a final Environmental Assessment (final EA) for the projects.

In the final EA, Commission staff analyzes the potential environmental effects of the projects, and concludes that relicensing the projects, with appropriate environmental protective measures, would not constitute a major federal action that would significantly affect the quality of the human environment.

A copy of the final EA is on file with the Commission and is available for public inspection. The final EA may also be viewed on the Commission's Web site at http://www.ferc.gov using the eLibrary link. Enter the docket number, excluding the last three digits in the docket number field, to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

For further information, contact Monir Chowdhury at (202) 502-6736.

Dated: October 20, 2017.
Kimberly D. Bose,
Secretary.

[FR Doc. 2017-23412 Filed 10-26-17; 8:45 am]

BILLING CODE 6717-01-P